DEPARTMENT OF HOMELAND SECURITY

National Communications System

[Docket No. NCS-2006-0009]

National Security Telecommunications Advisory Committee

AGENCY: National Communications System, DHS.

ACTION: Amended Notice of Partially Closed Advisory Committee Meeting.

SUMMARY: The President's National Security Telecommunications Advisory Committee (NSTAC) will meet in a partially closed session.

DATES: Tuesday, December 19, 2006, from 9 a.m. until 1 p.m.

ADDRESSES: The meeting will take place at the U.S. Chamber of Commerce, 1615 H St., NW., Washington, DC. To register for this meeting and for access to meeting materials, contact Mr. William Fuller at (703) 235-5521, or by e-mail at William.C.Fuller@dhs.gov by 5 p.m. on Monday, December 18, 2006. If you desire to submit comments, they must be submitted by December 18, 2006. Comments must be identified by Docket Number NCS-2006-0009 and may be submitted by one of the following methods:

• Federal eRulemaking Portal: http://www.regulations.gov. Follow the instructions for submitting comments.

• E-mail: NSTAC1@dhs.gov. Include docket number in the subject line of the message.

• Mail: Office of the Manager, National Communications System (N5), Department of Homeland Security, Washington, DC 20529.

• Fax: 866-466-5370

Instructions: All submissions received must include the words “Department of Homeland Security” and NCS-2006-0009, the docket number for this action. Comments received will be posted without alteration at www.regulations.gov, including any personal information provided.

Docket: For access to the docket to read background documents or comments received by the NSTAC, go to http://www.regulations.gov.

FOR FURTHER INFORMATION CONTACT: Ms. Kiesha Gebreyes, Chief, Industry Operations Branch at (703) 235-5525, e-mail: Kiesha.Gebreyes@dhs.gov or write the Deputy Manager, National Communications System, Department of Homeland Security, CS&T/NCS/N5.

SUPPLEMENTARY INFORMATION: The NSTAC advises the President on issues and problems related to implementing national security and emergency preparedness telecommunications policy. Notice of this meeting is given under the Federal Advisory Committee Act (FACA), Pub. L. 92-463, as amended (5 U.S.C. App.).

This meeting was the subject of a prior notice published on December 4, 2006 (71 FR 70413). In that notice, the meeting was scheduled for December 19, at the location provided above, from 1 p.m. to 4 p.m. However, due to exceptional circumstances, the meeting must be rescheduled for earlier in the day.

Pursuant to 41 CFR 102-3.150(b), this amended notice is being published less than 15 days prior to the meeting date due to exceptional circumstances. The Department adjusted the meeting schedule set forth in the December 4, 2006 notice in order to accommodate the schedule of the President of the United States. The Department determined that it would impracticable to change the date of the substantive activity scheduled for this meeting. In order to allow the greatest possible public participation, the Department has extended the usual deadlines to submit comments. As noted above, this date is December 18, 2006.

Between 9 a.m. and 11 a.m., the committee will discuss the Global Infrastructure Resiliency (GIR) Report. This portion of the meeting will be closed to the public.

Between 11 a.m. and 1 p.m., the NSTAC will receive comments from government stakeholders, discuss the work of the NSTAC's Emergency Communications and Interoperability Task Force (ECITF), and discuss the work of the Telecommunications and Electric Power Interdependency Task Force (TEPITF). This portion of the meeting will be open to the public. The meeting may be adjourned earlier if all business is concluded.

Basis for Closure: The GIR discussion will likely involve sensitive infrastructure information concerning system threats and explicit physical/cyber vulnerabilities related to current communications capabilities. Public disclosure of such information would heighten awareness of potential vulnerabilities and increase the likelihood of exploitation by terrorists or other motivated adversaries. Pursuant to Section 10(d) of the Federal Advisory Committee Act, Public Law 92-463, as amended (5 U.S.C. App.), the Department has determined that this discussion will concern matters which, if disclosed, would be likely to frustrate significantly the implementation of a proposed agency action. Accordingly, this portion of the meeting will be closed to the public pursuant to the authority set forth in 5 U.S.C. 552b(c)(9)(B).

Information on Services for Individuals with Disabilities: For information on facilities or services for individuals with disabilities, or to request special assistance at the meeting, contact Kiesha Gebreyes as soon as possible.

Dated: December 14, 2006.
George W. Foresman,
Under Secretary for Preparedness.

[FR Doc. 06-9769 Filed 12-14-06; 2:23 pm]

BILLING CODE 4410-10-P